EXPORT-IMPORT BANK

Notice of Open Meeting of the Advisory Committee of the Export-Import Bank of the United States (Ex-Im Bank).

SUMMARY: The Advisory Committee was established by Public Law 98-181, November 30, 1983, to advise the Export-Import Bank on its programs and to provide comments for inclusion in the report on competitiveness of the Export-Import Bank of the United States to Congress.

Time and Place: Thursday, January 15, 2015 from 11:00 a.m.-3:00 p.m. A break for lunch will be at the expense of the attendee. Security processing will be necessary for reentry into the building. The meeting will be held at Ex-Im Bank in the Main Conference Room—11th floor, 811 Vermont Avenue NW., Washington, DC 20571.

Agenda: Agenda items include a briefing for the Advisory Committee members on Bank priority goals for 2015, a discussion of the roles and responsibilities of Advisory Committee members, and an ethics briefing.

Public Participation: The meeting will be open to public participation, and 10 minutes will be set aside for oral questions or comments. Members of the public may also file written statement(s) before or after the meeting. If you plan to attend, a photo ID must be presented at the guard's desk as part of the clearance process into the building; you may contact Niki Shepperd at niki.shepperd@exim.gov to be placed on an attendee list. If any person wishes auxiliary aids (such as a sign language interpreter) or other special accommodations, please email Niki Shepperd at niki.shepperd@exim.gov prior to January 12, 2015.

Members of the Press: For members of the Press planning to attend the meeting, a photo ID must be presented at the guard's desk as part of the clearance process into the building; please email Niki Shepperd at niki.shepperd@exim.gov to be placed on an attendee list.

FOR FURTHER INFORMATION CONTACT: For further information, contact Niki Shepperd, 811 Vermont Ave. NW., Washington, DC 20571, at niki.shepperd@exim.gov.

Lloyd Ellis,
Program Specialist, Office of the General Counsel.

[FR Doc. 2014-30473 Filed 12-29-14; 8:45 am]

BILLING CODE 6690-01-P